DEPARTMENT OF TRANSPORTATION

Federal Aviation Administration

14 CFR Part 39

[Docket No. FAA-2012-0530; Directorate Identifier 2011-SW-075-AD]

RIN 2120-AA64

Airworthiness Directives; Bell Helicopter Textron Helicopters

AGENCY: Federal Aviation Administration (FAA), DOT.

ACTION: Notice of proposed rulemaking (NPRM).

SUMMARY: We propose to adopt a new airworthiness directive (AD) for Bell Helicopter Textron (BHT) Model 412, 412EP, and 412CF helicopters. This proposed AD is prompted by a reported failure of a collective lever. These proposed actions are intended to detect a crack in the collective lever, which could lead to failure of the collective lever and subsequent loss of control of the helicopter.

DATES: We must receive comments on this proposed AD by July 23, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this AD, contact Bell Helicopter Textron, Inc., P.O. Box 482, Fort Worth, TX 76101, telephone (817) 280-3391, fax (817) 280-6466, or at http://www.bellcustomer.com/files/. You may review a copy of the referenced service information at the FAA, Office of the Regional Counsel, Southwest Region, 2601 Meacham Blvd., Room 663, Fort Worth, Texas 76137.

FOR FURTHER INFORMATION CONTACT: Martin Crane, Aerospace Engineer, FAA, Rotorcraft Certification Office, Rotorcraft Directorate, 2601 Meacham Blvd., Fort Worth, Texas 76137, telephone (817) 222-5170, email martin.r.crane@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

BHT has received a report of a fractured collective lever part number (P/N) 412-010-408-101. Their investigation revealed that residual stresses induced during manufacturing may have contributed to the fatigue fracture of the collective lever. This condition, if not corrected, could lead to failure of the collective lever, and subsequent loss of control of the helicopter.

FAA's Determination

We are proposing this AD because we evaluated all known relevant information and determined that an unsafe condition is likely to exist or develop on other products of the same type design.

Related Service Information

We reviewed BHT ASB 412-11-148 and ASB 412CF-11-47, which describe procedures for repetitively inspecting the collective control with a magnifying glass and a strong light source and, if necessary, a fluorescent penetrant inspection. If there is a crack, the ASBs require replacing the collective lever.

Proposed AD Requirements

This proposed AD requires, within 25 hours time-in-service (TIS), cleaning the collective lever and inspecting it for cracks with a 10X or higher power magnifying glass. If there is a crack in the collective lever paint finish, this proposed AD requires removing the collective lever from the swashplate and performing a fluorescent penetrant inspection. If there is a crack in the collective lever, this proposed AD requires replacing the collective lever with an airworthy collective lever before further flight. Additionally, this AD requires repeating this inspection every 100 hours time-in-service (TIS).

Differences Between This Proposed AD and the Service Information

The BHT ASBs require compliance within 100 hours of flight time for the initial inspection; the proposed AD requires compliance within 25 hours TIS. If a crack is found, the BHT ASBs require reporting the defect to Bell Product Support Engineering; the proposed AD does not. The BHT ASBs allow a portion of the collective lever to be inspected by a mirror and light only without a magnifying glass; the proposed AD does not.

Costs of Compliance

We estimate that this proposed AD will affect 83 helicopters of U.S. Registry. We estimate that operators may incur the following costs in order to comply with this proposed AD. Inspecting the collective lever requires one work-hour at an average labor rate of $85 per hour, for a cost per helicopter of $85 and a total cost to the U.S. operator fleet of $7,055 per inspection cycle. Replacing a cracked collective lever requires 10 work-hours at an average labor rate of $85 per hour and required parts will cost $12,883, for a total cost of $13,733 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron: Docket No. FAA-2012-0530; Directorate Identifier 2011-SW-075-AD.

(a) Applicability

This AD applies to Model 412 and 412EP helicopters, serial numbers (S/N) 33001 through 33213, 34001 through 34036, and 36001 and higher; and Model 412CF helicopters, S/N 46400 and higher; with a collective lever part number (P/N) 412-010-408-101 installed, certificated in any category.

(b) Unsafe Condition

This AD defines the unsafe condition as a cracked collective lever, which could result in failure of the collective lever and subsequent loss of control of the helicopter.

(c) Compliance

You are responsible for performing each action required by this AD within the specified compliance time unless it has already been accomplished prior to that time.

(d) Required Actions

Within 25 hours time-in-service (TIS) or 30 days, whichever occurs first, and thereafter at intervals not to exceed 100 hours TIS:

(1) Using cleaning compound (C-318) or equivalent, thoroughly clean the collective lever.

(2) Using a 10X or higher power magnifying glass, inspect the collective lever in the areas shown in Figure 1 of Bell Helicopter Textron Alert Service Bulletin (ASB) 412-11-148, Revision A, dated December 12, 2011 or Bell Helicopter Textron ASB 412CF-11-47, Revision A, dated December 12, 2011, as appropriate for your model helicopter.

(3) If there is a crack in the paint, remove the collective lever from the swashplate assembly.

(i) Remove paint and primer from the area around the crack.

(ii) Fluorescent penetrant inspect the area of the crack.

(4) If there is a crack in the collective lever, before further flight, replace the collective lever with an airworthy collective lever.

(e) Alternative Methods of Compliance (AMOC)

(1) The Manager, Rotorcraft Certification Office, FAA, may approve AMOCs for this AD. Send your proposal to: Martin Crane, Aerospace Engineer, FAA, Rotorcraft Certification Office, Rotorcraft Directorate, 2601 Meacham Blvd., Fort Worth, Texas 76137, telephone (817) 222-5170, email martin.r.crane@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

For service information identified in this AD, contact Bell Helicopter Textron, Inc., P.O. Box 482, Fort Worth, TX 76101, telephone (817) 280-3391, fax (817) 280-6466, or at http://www.bellcustomer.com/files/. You may review a copy of information at the FAA, Office of the Regional Counsel, Southwest Region, 2601 Meacham Blvd., Room 663, Fort Worth, Texas 76137.

(g) Subject

Joint Aircraft Service Component (JASC) Code: 6230: Main Rotor Mast/Swashplate.

Issued in Fort Worth, Texas, on May 10, 2012.
Kim Smith,
Manager, Rotorcraft Directorate, Aircraft Certification Service.

[FR Doc. 2012-12350 Filed 5-21-12; 8:45 am]

BILLING CODE 4910-13-P